DEPARTMENT OF ENERGY

Federal Energy Regulatory Commission

[Docket No. EG02-102-000, et al.]

Bastrop Energy Partners. L.P., et al.; Electric Rate and Corporate Regulation Filings

March 12, 2002.

Take notice that the following filings have been made with the Commission. Any comments should be submitted in accordance with Standard Paragraph E at the end of this notice.

1. Bastrop Energy Partners, L.P.

[Docket No. EG02-102-000]

Take notice that on March 8, 2002, Bastrop Energy Partners, L.P. (the Applicant), with its principal office at 125 Old Bastrop Highway, Cedar Creek, Texas 78612, filed with the Federal Energy Regulatory Commission (Commission) an application for determination of exempt wholesale generator status pursuant to Part 365 of the Commission's regulations.

Applicant states that it is a Delaware limited partnership engaged directly and exclusively in the business of constructing and operating an approximately 536 MW gas-fired generating facility to be located in Bastrop County, Texas. Electric energy produced by the facility will be sold at wholesale or at retail exclusively to foreign consumers.

Comment Date: April 1, 2002.

1. Soyland Power Cooperative, Inc.

[Docket No. ER02-598-001]

Take notice that on March 6, 2002, Soyland Power Cooperative, Inc. (Soyland) tendered for filing with the Federal Energy Regulatory Commission (the Commission) a revised Schedule A, designated as Supplement No. 5 to its Rate Schedules, in the format required by the Commission's Order No. 614. The filing was made in compliance with the Commission's letter order dated February 5, 2002.

Comment Date: March 27, 2002.

2. Duke Energy Hot Spring, LLC

[Docket No. ER02-694-001]

Take notice that on March 6, 2002, Duke Energy Hot Spring, LLC (Duke Energy Hot Spring) tendered for filing with the Federal Energy Regulatory Commission (Commission), a notice of status change in connection with the Commission's order authorizing a change in upstream control of Engage Energy America LLC and Frederickson Power L.P. resulting from a transaction involving Duke Energy Corporation and Westcoast Energy Inc. (98 FERC ¶ 61207(2002)).

Copies of the filing were served upon all parties on the official service list in this proceeding.

Comment Date: March 27, 2002.

3. RWE Trading Americas Inc.

[Docket No. ER02-1252-000]

Take notice that on March 5, 2002, RWE Trading Americas Inc. (RWE Trading) filed with the Commission for acceptance RWE Trading's admission as a member in the Western Systems Power Pool (WSPP). In addition, RWE Trading requests a Commission order granting an amendment to the WSPP Agreement to include RWE Trading as a participant.

A March 6, 2002 effective date has been requested.

RWE Trading states that copies of this filing were sent to the members of the WSPP Executive Committee and the General Counsel to the WSPP.

Comment Date: March 26, 2002.

4. Northeast Utilities Service Company

[Docket No. ER02-1253-000]

Take notice that on March 5, 2002, Northeast Utilities Service Company (NUSCO), tendered for filing a Service Agreement to provide Firm Point-To-Point Transmission Service to AES New Energy, Inc. under the NU System Companies' Open Access Transmission Service Tariff No. 9.

NUSCO states that a copy of this filing has been mailed to AES New Energy, Inc.

NUSCO requests that the Service Agreement become effective March 29, 2002.

Comment Date: March 26, 2002.

5. Commonwealth Edison Company

[Docket No. ER02-1254-000]

Take notice that on March 5, 2002, Commonwealth Edison Company (ComEd) submitted for filing an executed Service Agreement for Short-Term Firm Point-to-Point Transmission Service (Service Agreement) and the associated executed Dynamic Scheduling Agreement (DSA) with Exelon Generation Company, LLC (Exelon) under ComEd's Open Access Transmission Tariff (OATT). The executed Service Agreement and associated executed DSA replace the unexecuted Service Agreement and unexecuted DSA between ComEd and Exelon which were previously filed with the Commission on February 28, 2002, designated as Docket No. ER02-1183-000.

ComEd requests an effective date of March 1, 2002 for both the executed Service Agreement and the associated executed DSA, which is the same effective date that ComEd requested for the unexecuted Service Agreement and associated unexecuted DSA with Exelon filed in Docket No. ER02-1183-000. Accordingly, ComEd requests waiver of the Commission's notice requirements.

A copy of this filing was served on Exelon and ORMET Corporation.

Comment Date: March 26, 2002.

6. PPL Electric Utilities Corporation

[Docket No. ER02-1255-000]

Take notice that on March 5, 2002, PPL Electric Utilities Corporation (PPL Electric) and Citizens' Electric Company of Lewisburg (Citizens' Electric) filed an Interconnection Agreement between PPL Electric and Citizens' Electric.

PPL Electric and Citizens' Electric request an effective date of February 1, 2002 for the Interconnection Agreement.

Comment Date: March 26, 2002.

7. Hermiston Power Partnership

[Docket No. ER02-1257-000]

Take notice that on March 5, 2002, Hermiston Power Partnership (the Applicant) tendered for filing, under section 205 of the Federal Power Act, a request for authorization to make wholesale sales of electric energy, capacity and ancillary services at market-based rates, to reassign transmission capacity, and to resell firm transmission rights. Applicant proposes to own and operate a 546 megawatt electric generation facility located in Umatilla County, Oregon. Applicant also submitted for filing a power marketing agreement for which it requests privileged and confidential treatment.

Comment Date: March 26, 2002.

8. New England Power Company

[Docket No. ER02-1259-000]

Take notice that on March 6, 2002, New England Power Company (NEP), on behalf of Massachusetts Electric Company, submitted for filing Original Service Agreement No. 211 for service under NEP's Open Access Transmission Tariff, FERC Electric Tariff, Second Revised Volume No. 9 between NEP and Paxton Municipal Light Department.

NEP states that a copy of this filing has been served upon Paxton and regulators in the State of Massachusetts.

Comment Date: March 27, 2002.

9. Michigan Electric Transmission Company

[Docket No. ER02-1260-000]

Take notice that on March 6, 2002, Michigan Electric Transmission Company (METC) tendered for filing executed Service Agreements for Network Transmission Service (Agreements) with Nicor Energy, L.L.C. and Wolverine Power Marketing Cooperative (Customers) pursuant to the Joint Open Access Transmission Service Tariff filed on February 22, 2001 by Michigan Transco and International Transmission Company (ITC). The Service Agreements being filed are Nos. 155 and 156 under that tariff.

METC is requesting effective dates of March 1, 2002 and February 4, 2002, respectively, for the Agreements. Copies of the Agreements were served upon the Michigan Public Service Commission, ITC and the Customers.

Comment Date: March 27, 2002.

10. Vermont Electric Power Company, Inc.

[Docket No. ER02-1261-000]

Take notice that on March 5, 2002, Vermont Electric Power Company, Inc. (VELCO) filed a revised transmission agreement among VELCO, the electric utilities serving the state of Vermont and the Vermont Department of Public Service, designated by the Commission as VELCO's FERC Rate Schedule No. 246.

VELCO seeks an effective date of May 1, 2002 for the revised transmission agreement and, accordingly, seeks waiver of the Commission's notice requirements to the extent necessary. Copies of the filing have been served on all customers under the agreement and on the Vermont Public Service Board.

Comment Date: March 26, 2002.

11. Southwest Reserve Sharing Group

[Docket No. ER02-1262-000]

Take notice that on March 6, 2002, Tucson Electric Power Company tendered for filing on behalf of the members of the Southwest Reserve Sharing Group an amendment to the Southwest Reserve Sharing Group Participation Agreement.

Comment Date: March 27, 2002.

12. Cabrillo Power I LLC, Cabrillo Power II LLC

[Docket No. ER02-1264-000]

Take notice that on March 5, 2002, Cabrillo Power I LLC and Carbillo Power II LLC tendered for filing with the Federal Energy Regulatory Commission (Commission) an informational filing and other revisions to their Reliability Must-Run Service Agreements with the California Independent System Operator Corporation.

A copy of the filing has been served on the California Independent System Operator Corporation, the California Electricity Oversight Board and San Diego Gas & Electric Company.

Comment Date: March 26, 2002.

13. Entergy Services, Inc.

[Docket No. ER02-1265-000]

Take notice that on March 7, 2002, Entergy Services, Inc., on behalf of Entergy Gulf States, Inc., tendered for filing an unexecuted Interconnection and Operating Agreement with Calcasieu Development Company, L.L.C. (Enron Calcasieu), and a Generator Imbalance Agreement with Enron Calcasieu.

Comment Date: March 28, 2002.

14. Niagara Mohawk Power Corporation

[Docket No. ER02-1266-000]

Take notice that on March 6, 2002, Niagara Mohawk Power Corporation, a National Grid Company (Niagara Mohawk) tendered for filing its First Amended and Restated Rate Schedule FERC No. 204 with the Power Authority of the State of New York (the Power Authority).

Copies of the filing have been served on counsel for the City of Jamestown Board of Public Utilities, the Power Authority, the New York Independent System Operator, Inc., the New York State Public Service Commission, the New York State Electric Cooperative Association and the Municipal Electric Utilities Association of New York.

Comment Date: March 27, 2002.

15. Desert Power, L.P.

[Docket No. ER02-1267-000]

Take notice that on March 4, 2002, Desert Power, L.P. tendered for filing Service Agreement No. 3, Original Volume 1 with Northern States Power Company effective January 30, 2002.

Comment Date: March 25, 2002.

16. Desert Power, L.P.

[Docket No. ER02-1268-000]

Take notice that on March 4, 2002, Desert Power, L.P. tendered for filing Service Agreement No. 2, Original Volume 1 with Public Company of Colorado, effective date January 30, 2002.

Comment Date: March 25, 2002.

17. The Dayton Power and Light Company

[Docket No. ER02-1269-000]

Take notice that on March 5, 2002, The Dayton Power and Light Company (Dayton) submitted to the Federal Energy Regulatory Commission (Commission) service agreements The Dayton Power and Light Company Energy Services Department as customers under the terms of Dayton's Open Access Transmission Tariff.

Dayton requests an effective date of one day subsequent to this filing for the service agreements. Dayton also requests waiver of the Commission's notice requirements. Copies of this filing were served upon The Dayton Power and Light Company Energy Services Department and the Public Utilities Commission of Ohio.

Comment Date: March 26, 2002.

18. Northeast Utilities Service Company

[Docket No. ER02-1270-000]

Take notice that on March 5, 2002, Northeast Utilities Service Company (NUSCO), tendered for filing, Service Agreement to provide Firm Point-To-Point Transmission Service to AES New Energy, Inc. under the NU System Companies' Open Access Transmission Service Tariff No. 9.

NUSCO requests that the Service Agreement become effective March 29, 2002.

NUSCO states that a copy of this filing has been mailed to AES New Energy, Inc.

Comment Date: March 26, 2002.

19. Cinergy Services, Inc.

[Docket No. ER02-1271-000]

Take notice that on March 6, 2002, Cinergy Services, Inc. (Cinergy) and Conoco Power Marketing, Inc., are requesting a cancellation of Service Agreement No 110, under Cinergy Operating Companies, FERC Market-Based Power Sales, FERC Electric Tariff Original Volume No. 7.

Cinergy requests an effective date of October 29, 1997.

Comment Date: March 27, 2002.

20. Cinergy Services, Inc.

[Docket No. ER02-1272-000]

Take notice that on March 6, 2002, Cinergy Services, Inc. (Cinergy) and Conoco Power Marketing, L.L.C. requested a cancellation of Service Agreement No. 33 under Cinergy Operating Companies, FERC Electric Resale of Transmission Rights and Ancillary Service Rights, FERC Electric Tariff Original Volume No. 8.

Cinergy requests an effective date of February 27, 2002.

Comment Date: March 27, 2002.

21. Cinergy Services, Inc.

[Docket No. ER02-1273-000]

Take notice that on March 6, 2002, Cinergy Services, Inc. (Cinergy) and Conoco Power Marketing, Inc. are requesting a cancellation of Service Agreement No 110, under Cinergy Operating Companies, FERC Cost-Based Power Sales, FERC Electric Tariff Original Volume No. 6.

Cinergy requests an effective date of October 29, 1997.

Comment Date: March 27, 2002.

22. Cinergy Services, Inc.

[Docket No. ER02-1274-000]

Take notice that on March 6, 2002, Cinergy Services, Inc. (Cinergy) tendered for filing a Notice of Name Change from Aquila Energy Marketing Corporation to Aquila Merchant Services, Inc. Cinergy respectfully requests waiver of notice to permit the Notice of Name Change to be made effective as of the date of the Notice of Name Change.

A copy of the filing was served upon Aquila Merchant Services, Inc.

Comment Date: March 27, 2002.

23. Florida Power & Light Company

[Docket No. ER02-1275-000]

Take notice that on March 6, 2002, Florida Power & Light Company tendered for filing with the Federal Energy Regulatory Commission a letter of agreement with El Paso Merchant Energy as a service agreement under its Open Access Transmission Tariff. A copy of the filing has been served on El Paso Merchant Energy and the Florida Public Service Commission.

Comment Date: March 27, 2002.

24. Illinois Power Company

[Docket No. ER02-1276-000]

Take notice that on March 6, 2002, Illinois Power Company (Illinois Power), filed a First Revised Interconnection Operating Agreement entered into with Piatt Midwest Statutory Trust II, assignee of Aquila Piatt County Power, L.L.C., and subject to Illinois Power's Open Access Transmission Tariff.

Illinois Power requests an effective date of February 12, 2002 for the First Revised Interconnection Agreement and seeks a waiver of the Commission's notice requirement. Illinois Power has served a copy of the filing on Piatt Midwest Statutory Trust II.

Comment Date: March 27, 2002.

25. Central Maine Power Company

[Docket No. ER02-1277-000]

Take notice that on March 7, 2002, Central Maine Power Company (Central Maine) filed with the Federal Energy Regulatory Commission (Commission), pursuant to Section 205 of the Federal Power Act, an executed S.D. Warren Somerset Entitlement Agreement. In addition, Central Maine requested confidential treatment for certain competitively sensitive material contained in the agreement.

Comment Date: March 28, 2002.

26. Michigan Electric Transmission Company

[Docket No. ER02-1278-000]

Take notice that on March 7, 2002, Michigan Electric Transmission Company (METC) tendered for filing executed Service Agreements for Network Transmission Service (Agreements) with Nicor Energy, L.L.C. and Wolverine Power Marketing Cooperative (Customers) pursuant to the Joint Open Access Transmission Service Tariff filed on February 22, 2001 by Michigan Transco and International Transmission Company (ITC). The Service Agreements being filed are Nos. 155 and 156 under that tariff.

METC is requesting effective dates of March 1, 2002 and February 4, 2002, respectively, for the Agreements. Copies of the Agreements were served upon the Michigan Public Service Commission, ITC and the Customers.

Comment Date: March 28, 2002.

27. West Texas Utilities Company

[Docket No. ER02-1279-000]

Take notice that on March 7, 2002, West Texas Utilities Company (WTU) submitted for filing a revised service agreement with the City of Brady, Texas (Brady) under WTU's FERC Electric Tariff, Original Volume No. 1.

WTU seeks an effective date of April 1, 2002 and, accordingly, seeks waiver of the Commission's notice requirements. WTU states that a copy of this filing has been served on Brady and the Public Utilities Commission of Texas.

Comment Date: March 28, 2002.

28. The Detroit Edison Company

[Docket No. ER02-1280-000]

Take notice that on March 7, 2002, The Detroit Edison Company (Detroit Edison) tendered for filing a Service Agreement for wholesale power sales transactions (the Service Agreements) under Detroit Edison's Wholesale Power Sales Tariff (WPS-2), FERC Electric Tariff No. 3 (the WPS-2 Tariff) between Detroit Edison and Nicor Energy, LLC.

Comment Date: March 28, 2002.

29. Maine Electric Power Company

[Docket No. ER02-1281-000]

Please take notice that on March 7, 2002, Maine Electric Power Company (MEPCO) tendered for filing an Executed Service Agreement for “Umbrella” Non-Firm Point-to-Point Transmission Service with Emera Energy Services, Inc., designated as FERC Electric Tariff, Volume No. 1, as supplemented, Service Agreement No. 68.

Comment Date: March 28, 2002.

30. Virginia Electric and Power Company

[Docket No. ER02-1282-000]

Take notice that on March 8, 2002, Virginia Electric and Power Company, d/b/a Dominion Virginia Power, tendered for filing a Notice of Cancellation and a revised cover sheet to cancel an executed Generator Interconnection and Operating Agreement (Interconnection Agreement) between Dominion Virginia Power and Tractebel North America Services, Inc. (Tractebel).

Dominion Virginia Power requested an effective date of March 9, 2002. Copies of the filing were served upon Tractebel and the Virginia State Corporation Commission.

Comment Date: March 29, 2002.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Magalie R. Salas,
Secretary.

[FR Doc. 02-6556 Filed 3-18-02; 8:45 am]

BILLING CODE 6717-01-P